DEPARTMENT OF AGRICULTURE

Office of the Secretary

National Agricultural Research, Extension, Education, and Economics Advisory Board Meeting Notice

AGENCY: Research, Education, and Economics, United States Department of Agriculture (USDA).

ACTION: Notice of meeting.

SUMMARY: In accordance with the Federal Advisory Committee Act, 5 U.S.C. App 2, the USDA announces a meeting of the National Agricultural Research, Extension, Education, and Economics Advisory Board.

DATES: The National Agricultural Research, Extension, Education, and Economics Advisory Board will meet November 7-9, 2011. The public may file written comments before or up to two weeks after the meeting with the contact person.

ADDRESSES: The meeting will take place at the Mandarin Oriental, 1330 Maryland Avenue, SW., Washington, DC 20024. Written comments from the public may be sent to the Contact Person identified in this notice at: The National Agricultural Research, Extension, Education, and Economics Advisory Board Office, Room 3901 South Building, United States Department of Agriculture, STOP 0321, 1400 Independence Avenue, SW., Washington, DC 20250-0321.

FOR FURTHER INFORMATION CONTACT: J. Robert Burk, Executive Director or Shirley Morgan-Jordan, Program Support Coordinator, National Agricultural Research, Extension, Education, and Economics Advisory Board; telephone: (202) 720-3684; fax: (202) 720-6199; or e-mail: Robert.Burk@ars.usda.gov or Shirley.Morgan@ars.usda.gov.

SUPPLEMENTARY INFORMATION: The Honorable Secretary of Agriculture Tom Vilsack, and the Under Secretary for Research, Education, and Economics Dr. Catherine Woteki have been invited to provide brief remarks and welcome the new Board members during the meeting.

On Monday, November 7, 2011, an orientation session for new members and interested incumbent members will be held from 1 p.m.-5:30 p.m. Specific topics of discussion will include an introduction to the leadership and structure of the Agricultural Research Service, Economic Research Service, National Agricultural Statistics Service, and the National Institute of Food and Agriculture, and information on the core functions of those agencies as it relates to the impending budgets proposed by Congress.

On Tuesday, November 8, 2011 the full Advisory Board will convene at 8 a.m. with introductory remarks by the Chair of the Advisory Board. The morning session will include: brief introductions of new Board members, incumbents, and guests; comments from a variety of distinguished leaders, experts, and departmental personnel; and items of board business. Specific items on the agenda will include a discussion related to the Farm Bill and the relevant Research, Education, and Economics components of the Bill. The afternoon session will also include a discussion on the impact of National Agricultural Statistic Service reports on grain market volatility in 2011. The meeting will conclude with an evening reception that will be held from 6 p.m.-8 p.m.

On Wednesday November 9, 2011, the Board will reconvene at 8 a.m. to: elect the Executive Committee of the Advisory Board; discuss initial recommendations resulting from the meeting and future planning for the Board; to organize the memberships of the committees, sub-committees, and working groups of the Advisory Board; and to finalize Board business for the meeting. The Board Meeting will adjourn by 12 p.m. (noon).

Opportunity for public comment will be offered each day of the meeting. Written comments by attendees or other interested stakeholders will be welcomed for the public record before and up to two weeks following the Board meeting (by close of business Wednesday, November 23, 2011). All statements will become a part of the official record of the National Agricultural Research, Extension, Education, and Economics Advisory Board and will be kept on file for public review in the Research, Education, and Economics Advisory Board Office.

Done at Washington, DC, this 28 day of September 2011.
Catherine Woteki,
Under Secretary, Research, Education, and Economics.

[FR Doc. 2011-26129 Filed 10-7-11; 8:45 am]

BILLING CODE 3410-22-P